DEPARTMENT OF AGRICULTURE

Agricultural Marketing Service

[Doc. No. AMS-DA-21-0095]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request approval, from the Office of Management and Budget, for an extension of and revision to the currently approved information collection for Export Health Certificate Request Forms.

DATES: Comments on this notice must be received by February 14, 2022 to be assured of consideration.

ADDRESSES: Interested persons are invited to submit comments concerning this notice by using the electronic process available at www.regulations.gov. Written comments may also be submitted to Matthew M. Siedschlaw, Grading and Standardization Division, Dairy Programs, Agricultural Marketing Service, U.S. Department of Agriculture, Room 2756—South Building, 1400 Independence Avenue SW, Washington, DC 20250-0230: Tel: (202) 937-4901 or Email: Matthew.Siedschlaw@usda.gov. and the date and page number of this issue of the Federal Register and can be viewed at: https://www.regulations.gov. All comments submitted in response to this proposal will be included in the record and will be made available to the public. Please be advised that the identity of the individuals or entities submitting the comments will be made public on the internet at the address provided above.

FOR FURTHER INFORMATION CONTACT: Matthew M. Siedschlaw, Grading and Standardization Division, Dairy Programs, Agricultural Marketing Service, U.S. Department of Agriculture, Room 2756—South Building, 1400 Independence Avenue SW, Washington, DC 20250-0230: Tel: (202) 937-4901 or Email: Matthew.Siedschlaw@usda.gov.

SUPPLEMENTARY INFORMATION:

Title: Export Certificate Request Forms.

OMB Number: 0581-0283.

Expiration date of Approval: March 31, 2022.

Type of Request: Extension and revision of a currently approved information collection.

Abstract: The dairy grading program is a voluntary fee program authorized under the Agricultural Marketing Act (AMA) of 1946 (U.S.C. 1621-1627). The regulations governing inspection and grading services of manufactured or processed dairy products are contained in 7 CFR part 58. Importing countries require certification methods and sources of raw ingredients for dairy products. USDA, AMS, Dairy Grading Branch is the designated unit for dairy products in the United States. Exporters must request export certificates from USDA.

Need and Use of the Information: To provide the required information on dairy export sanitary certificates AMS must collect the information from the exporter. The information required on the sanitary certificates varies from country to country requiring specific forms for each country. Such information includes: Identity of the importer and exporter, to describe consignments specifics, and identify border entry at the country of destination. The information gathered using these forms is only used to create the export sanitary certificate. There has been a change in the overall burden of this submission.

Estimate of Burden: Public reporting burden for this collection of information is estimated to average .20 hours per response.

Respondents: Dairy product manufacturers, distributors, exporters, and consultants.

Estimated Number of Respondents: 275.

Estimated Total Annual Responses: 54,345.

Estimated Number of Responses per Respondent: 10,854.

Comments are invited on: (1) Whether the proposed collection of information is necessary for the proper performance of the functions of the agency, including whether the information will have practical utility; (2) the accuracy of the agency's estimate of the burden of the proposed collection of information including the validity of the methodology and assumptions used; (3) way to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Erin Morris,
Associate Administrator, Agricultural Marketing Service.

[FR Doc. 2021-27128 Filed 12-14-21; 8:45 am]

BILLING CODE P